DEPARTMENT OF AGRICULTURE

Economic Research Service

Notice of Intent To Request New Information Collection

AGENCY: Economic Research Service, USDA.

ACTION: Notice and request for comments.

SUMMARY: In accordance with the Paperwork Reduction Act of 1995, this notice invites the general public and other public agencies to send comments regarding any aspect of this proposed information collection. This is a new collection to provide state-level estimates of the prevalence and geographic distribution of School Food Authorities (SFAs) conducting Farm to School activities.

DATES: Written comments on this notice must be received on or before August 6, 2012 to be assured of consideration.

ADDRESSES: Address all comments concerning this notice to Katherine Ralston, Food Economics Division, Economic Research Service, U.S. Department of Agriculture, STOP 1800, 1400 Independence Avenue SW., Washington, DC 20250-1800. Comments may also be submitted via fax to the attention of Katherine Ralston at 202-245-4779 or via email to kralston@ers.usda.gov, or through the Federal eRulemaking Portal (http://www.regulations.gov), which provides online instructions for submitting comments electronically.

FOR FURTHER INFORMATION CONTACT: Katherine Ralston, kralston@ers.usda.gov, Tel. 202-694-5463.

SUPPLEMENTARY INFORMATION:

Title: Farm to School Census.

OMB Number: 0536-XXXX.

Expiration Date: Three years from the date of approval.

Type of Request: New collection.

Abstract: The Healthy, Hunger-Free Kids Act of 2010 directed USDA to carry out, through grants and technical assistance, a program to help eligible schools, State and local agencies, Indian tribal organizations, agricultural producers or groups of agricultural producers, and nonprofit entities implement farm to school activities that promote and improve access to local foods in eligible schools. The Act funded this requirement with an authorization of $5,000,000, to be allocated with consideration for geographic diversity and equitable treatment of rural, urban, and tribal communities as it relates to the distribution of farm to school programs.

The Farm to School Census will be used to establish a baseline measure of local food purchases in schools and set priorities for USDA programming related to local school food sourcing. The Farm to School Census data will be used in mapping School Food Authorities (SFAs) that procured local foods for school meal programs in 2011-12 in order to characterize the geographic distribution of farm to school programs and obtain State-level estimates of the prevalence of local procurement among SFAs. These data will be used to set priorities for USDA outreach and technical support.

The 2011-12 Farm to School Census questionnaire will be disseminated electronically to all public school district SFA food service directors as part of an invitation to participate from the Food and Nutrition Service (FNS) Child Nutrition Division, through State Child Nutrition Directors. State Child Nutrition Directors will also forward 3 reminder emails from FNS. A sample of non-respondents will be followed up by phone as part of an analysis of non-response. Data collection instruments will be kept as simple and respondent-friendly as possible. Responses are voluntary.

The map of local procurement by SFAs will require geocode boundary coordinates for each SFA. While boundary coordinates are available from the U.S. Census Bureau for school districts, SFAs can include more than one school district. Available data on SFAs from the Food and Nutrition Service is only available for SFAs that submit verification reports and is thus not a complete list of SFAs. Therefore, in order to obtain a more complete list, we will ask State Child Nutrition Directors to submit a list of SFAs with business contact information for SFA Food Service Directors in each State. This list will be matched to geocode boundary coordinates from the U.S. Census Bureau and characteristics such as enrollment and rural/urban status from the Common Core of Data, a data file compiled annually by the U.S. Department of Education's National Center of Education Statistics. Geocode boundary coordinates will be used to map SFAs purchasing local foods. Characteristics such as enrollment and rural/urban status will be used to analyze non-response and develop non-response weights. Business contact information will be used to follow-up a sample of non-respondents by telephone for an analysis of non-response.

Respondents will be informed that the information collected will be used for non-statistical purposes, i.e., to map each individual School Food Authority and the proportion of food expenditures going to locally-produced foods. Given the intended purpose of this information collection, to create a publicly accessible map of the extent of local purchasing by individual SFAs, this information collection is not covered by the Confidential Information Protection and Statistical Efficiency Act of 2002. The questionnaire will inform respondents that ERS will treat all information generated or gathered in the Farm to School Census in accordance with the Freedom of Information Act (5 U.S.C. 552).

Affected Public: The first respondent group is the universe of State Child Nutrition Directors from the 50 States and the District of Columbia, numbering 51 in total. The second respondent group is the universe of SFA food service directors in the 50 States and the District of Columbia, excluding private schools and charter schools, numbering 13,629.

Estimated Number of Respondents: All 51 State Child Nutrition Directors are expected to forward the invitation to participate in the Census and 3 reminder emails from FNS. Forty State Child Nutrition Directors (78 percent) are expected to provide a list of SFAs in the State with contact information, and 10,494 SFA Food Service Directors (77 percent) are expected to complete the Census questionnaire. The expected response rate for State Child Nutrition Directors is based on consultation with FNS Farm to School Program liaisons in FNS regional offices. The expected response rate for SFA Food Service Director is based on experience with the 2008 North Carolina Farm to School Survey, which was an email survey of similar length distributed by email with 3 reminders from the State Child Nutrition Director. A sample of 100 non-responding SFA Food Service Directors will be followed up by phone as part of an analysis of non-response.

Estimated Number of Responses per Respondent: 4 responses from State Child Nutrition Directors for the request to forward the invitation to participate and 3 reminder emails to SFAs, 1 response from State Child Nutrition Directors for a list of SFAs with contact information, 1 response from SFA Food Service Directors for the Farm to School Census, and 1 response from Census non-responders contacted by telephone for follow-up.

Estimated Total Responses: 204 responses from 51 State Child Nutrition Directors to the request to forward the survey invitation and 3 reminder emails, 40 responses from State Child Nutrition Directors to the request for a list of SFAs in the State, 10,494 responses from SFAs completing the Farm to School Census, and 100 SFAs selected as a sample of non-respondents.

Estimated Time per Response: State Child Nutrition Directors. The request to State Child Nutrition Directors to forward the Census invitation and 3 reminder emails from the Director of Child Nutrition to SFA Food Service Directors is estimated to each take 15 minutes, for a total of 1 hour.

The request to State Child Nutrition Directors to provide the list of SFAs in the State is estimated to take 1 hour. Non-responding State Child Nutrition Directors are expected to take 10 minutes determining that they are unable to provide this list in a timely fashion.

SFA Food Service Directors. We estimate the average time for responding SFA Food Service Directors as 9 minutes on average. This average includes 20 minutes for SFAs that have a local procurement program, and 5 minutes for those that do not, based on reviews of the data collection instrument by food service directors who are registered as members of the National Farm to School Network. About 20 percent of SFAs are estimated to have a local procurement program, based on results from the 2009-10 School Food Purchase Study. In addition, responding Food Service Directors are expected to spend an average of 1 minute total reading reminder emails either before they respond or after they respond, since reminders will be sent to all SFAs regardless of whether they have already responded.

We estimate that non-responding SFA Food Service Directors will spend 1 minute each reading the initial invitation to participate, a first reminder email, a second reminder email, and a third reminder email for a total of 4 minutes.

Non-responding Food Service Directors contacted by phone are expected to spend an average of 15 minutes answering an abridged set of questions about the presence and volume of local food procurement for the SFA.

Estimated Total Burden on Respondents: 1,901 hours. See the table below for details.

Reporting Burden
Description | Estimated number of respondents or non-respondents | Responses or non-responses annually per respondent | Total annual reponses or non-responses | Estimated average number of minutes per response or non-response* | Estimated total annual hours of response and non-response burden
Forwarding request to participate from FNS Child Nutrition Division to SFA Food Service Directors, plus 3 reminders | 51 | 4 | 204 | 15 | 51
Request to State Directors for list of School Food Authorities and Director Contact Information | 40 | 1 | 40 | 60 | 40
Non-respondents to request for list | 11 | 1 | 11 | 10 | 2
Total Burden, State Child Nutrition Directors |  |  |  |  | 93
Farm to School Census for School Food Authority Directors | 10,494 | 1 | 10,494 | 9 | 1,574
Non-respondents | 3,135 | 1 | 3,135 | 4 | 209
Follow-up phone calls for non-response analysis | 100 | 1 | 100 | 15 | 25
Total Burden, School Food Authority Directors |  |  |  |  | 1,808
Total Burden |  |  |  |  | 1,901
* Average minutes per response and nonresponse are based on reviews of the questionnaire by School Food Authority Directors that are members of the National Farm to School Network. Complete responses to the Farm to School Census questionnaire are estimated to require 20 minutes in School Food Authorities that purchase food locally, and 5 minutes for School Food Authorities that do not purchase food locally, with an estimated 20 percent purchasing locally produced food based on the 2009-10 School Food Purchase Study. In addition, respondents are estimated to spend an average of 1 minute total reading reminder emails either before they respond, or after they respond, since reminders will be sent to all SFAs regardless of whether they have already responded.

Comments: All written comments will be open for public inspection in the Resource Center of the Economic Research Service during regular business hours (8:30 a.m. to 5:00 p.m., Monday through Friday) at 355 E St. SW., Room 04P33, Washington, DC 20024-4221. All responses to this notice will be summarized and included in the request for Office of Management and Budget approval. All comments will be a matter of public record. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Dated: May 22, 2012.
Mary Bohman,
Administrator, Economic Research Service.

[FR Doc. 2012-13497 Filed 6-4-12; 8:45 am]

BILLING CODE 3410-18-P